DEPARTMENT OF LABOR

Employment and Training Administration

[TA-W-53,023]

Cardinal Glass Industries, Inc., Sextonville, WI; Notice of Affirmative Determination Regarding Application for Reconsideration

By letter of December 17, 2003, a petitioner requested administrative reconsideration of the Department of Labor's Notice of Negative Determination Regarding Eligibility to Apply for Worker Adjustment Assistance and Alternative Trade Adjustment Assistance (ATAA), applicable to workers of the subject firm. The determination was signed on November 19, 2003. The determination notice was published in the Federal Register on December 29, 2003 (68 FR 74977).

The Department reviewed the request for reconsideration and has determined that the petitioner has provided additional information. Further review of the initial investigation revealed that the Department erred in its description of the subject firm's product during the customer survey. Therefore, the Department will conduct a new customer survey to determine if the workers meet the eligibility requirements of the Trade Act of 1974.

Conclusion

After careful review of the application, I conclude that the claim is of sufficient weight to justify reconsideration of the Department of Labor's prior decision. The application is, therefore, granted.

Signed in Washington, DC, this 29th day of January, 2004.
Elliott S. Kushner,
Certifying Officer, Division of Trade Adjustment Assistance.

[FR Doc. 04-3013 Filed 2-10-04; 8:45 am]

BILLING CODE 4510-30-P